DEPARTMENT OF ENERGY

10 CFR Part 431

[Docket No. EERE-2008-BT-STD-0015]

RIN 1904-AB86

Energy Efficiency Program for Consumer Products: Public Meeting and Availability of the Framework Document for Walk-In Coolers and Walk-In Freezers; Date Change; Correction

AGENCY: Office of Energy Efficiency and Renewable Energy, Department of Energy.

ACTION: Proposed rule; date change; correction.

SUMMARY: The Department of Energy published a notice in the Federal Register on January 6, 2009, of a public meeting and availability of the framework document regarding energy conservation standards for walk-in coolers and walk-in freezers. This notice corrects the date of the public meeting, the date of the deadline for requesting to speak at the public meeting, and the date of the deadline for submitting written comments on the framework document.

FOR FURTHER INFORMATION CONTACT: Charles Llenza, U.S. Department of Energy, Office of Energy Efficiency and Renewable Energy, Building Technologies, EE-2J, 1000 Independence Avenue, SW., Washington, DC 20585-0121. Telephone: (202) 586-2192. e-mail: Charles.Llenza@ee.doe.gov.

Michael Kido, U.S. Department of Energy, Office of the General Counsel, GC-72, 1000 Independence Avenue, SW., Washington, DC 20585-0121. Telephone: (202) 586-8145. e-mail: Michael.Kido@hq.doe.gov.

Date Change/Corrections

In the Federal Register of January 6, 2009, FR Doc. E8-31405, on page 411, the following correction is made to the DATES section:

DATES: The Department will hold a public meeting on Wednesday, February 4, 2009, from 9 a.m. to 4 p.m. in Washington, DC. Any person requesting to speak at the public meeting should submit such request along with a signed original and an electronic copy of the statement to be given at the public meeting before 4 p.m., Wednesday, January 28, 2009. Written comments on the framework document are welcome, especially following the public meeting, and should be submitted by Thursday, February 12, 2009.

SUPPLEMENTARY INFORMATION: As noted above, DOE will hold a public meeting on Wednesday, February 4, 2009, in Washington, DC, the purpose of the meeting is to discuss the analyses presented and issues identified in the Framework Document. For additional information regarding the document and the meeting, the agency refers readers to the prior January 6, 2009 notice. 74 FR 411.

The Department welcomes all interested parties, whether or not they participate in the public meeting, to submit written comments regarding matters addressed in the Framework Document, as well as any other related issues by February 12, 2009.

Issued in Washington, DC, on January 8, 2009.
David E. Rodgers,
Deputy Assistant Secretary for Energy Efficiency, Office of Technology Development, Energy Efficiency and Renewable Energy.

[FR Doc. E9-591 Filed 1-13-09; 8:45 am]

BILLING CODE 6450-01-P